CONSUMER PRODUCT SAFETY COMMISSION

[Docket No. CPSC-2009-0073]

Proposed Extension of Approval of Information Collection; Comment Request: Virginia Graeme Baker Pool and Spa Safety Act; Compliance Form

AGENCY: Consumer Product Safety Commission.

ACTION: Notice.

SUMMARY: As required by the Paperwork Reduction Act of 1995 (44 U.S.C. chapter 35), the Consumer Product Safety Commission (CPSC or Commission) requests comments on a proposed 3-year extension of approval of information collection regarding a form used to verify whether pools and spas are in compliance with the Virginia Graeme Baker Pool and Spa Safety Act. The Office of Management and Budget (OMB) previously approved the collection of information under control number 3041-0142. OMB's most recent extension of approval will expire on July 31, 2013. The Commission will consider all comments received in response to this notice before requesting an extension of approval of this collection of information from OMB.

DATES: The Office of the Secretary must receive comments not later than June 18, 2013.

ADDRESSES: You may submit comments, identified by Docket No. CPSC-2009-0073, by any of the following methods:

Electronic Submissions

Submit electronic comments in the following way:

Federal eRulemaking Portal: http://www.regulations.gov. Follow the instructions for submitting comments.

To ensure timely processing of comments, the Commission is no longer accepting comments submitted by electronic mail (email), except through www.regulations.gov.

Written Submissions

Submit written submissions in the following way:

Mail/Hand delivery/Courier (for paper, disk, or CD-ROM submissions), preferably in five copies, to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov.

FOR FURTHER INFORMATION CONTACT: For further information contact: Robert H. Squibb, Consumer Product Safety Commission, 4330 East West Highway, Bethesda, MD 20814; (301) 504-7815, or by email to: rsquibb@cpsc.gov.

SUPPLEMENTARY INFORMATION:

A. Background

On December 19, 2008, the Virginia Graeme Baker Pool and Spa Safety Act (Pool and Spa Safety Act) became effective (Pub. L. 110-140). The Pool and Spa Safety Act applies to public pools and spas and requires that each swimming pool and spa drain cover manufactured, distributed, or entered into commerce in the United States shall conform to the entrapment protection standards of the ASME/ANSI A112.19.8 performance standard or any successor standard regulating such swimming pool or drain cover pursuant to section 1404(b) of the Pool and Spa Safety Act (Drain Cover Standard).

On August 5, 2011, the Commission published a final rule incorporating ANSI/APSP-16 2011 as the successor standard, effective September 6, 2011. In addition to the anti-entrapment devices or systems, each public pool and spa in the United States with a single main drain other than an unblockable drain shall be equipped with one or more of the following devices or systems designed to prevent entrapment by pool or spa drains that meet the performance requirements of any ASME/ANSI or ASTM standard if such standard exists for such device or system; safety vacuum release system; suction-limiting vent system; gravity drainage system; automatic pump shut-off system or drain disablement. The Pool and Spa Safety Act is designed to prevent the tragic and hidden hazard of drain entrapment and eviscerations in public pools and spas.

B. Estimated Burden

CPSC staff estimates that there may be approximately 97 inspections per year. CPSC staff estimates investigators will be talking to either the pool owners/operators or staff of the pool owners/operators at the time of the inspection. Investigators will be collecting drain cover and sump certification documents. It is estimated that 3 hours will be required to inspect a pool or spa facility. The total testing burden hours are 291 (97 inspections × 3 hours per inspection). We estimate that hourly compensation for the time required for testing is $61.06 (U.S. Bureau of Labor Statistics, “Employer Costs for Employee Compensation,” December 2012, Table 9, total compensation for management, professional, and related workers in goods-producing industries: http://www.bls.gov/ncs). We estimate the annual cost to be $17,768 ($61.06 × 291).

C. Request for Comments

The Commission solicits written comments from all interested persons about the proposed collection of information. The Commission specifically solicits information relevant to the following topics:

• Whether the collection of information described above is necessary for the proper performance of the Commission's functions, including whether the information would have practical utility;

• Whether the estimated burden of the proposed collection of information is accurate;

• Whether the quality, utility, and clarity of the information to be collected could be enhanced; and

• Whether the burden imposed by the collection of information could be minimized by use of automated, electronic or other technological collection techniques, or other forms of information technology.

Dated: April 16, 2013.
Todd A. Stevenson,
Secretary, Consumer Product Safety Commission.

[FR Doc. 2013-09227 Filed 4-18-13; 8:45 am]

BILLING CODE 6355-01-P